INTERNATIONAL TRADE COMMISSION

[USITC SE-04-029]

Sunshine Act Meeting

AGENCY HOLDING THE MEETING: United States International Trade Commission

TIME AND DATE: November 5, 2004 at 11 a.m.

PLACE: Room 101, 500 E Street, SW., Washington, DC 20436, Telephone: (202) 205-2000.

STATUS: Open to the public.

MATTERS TO BE CONSIDERED: 1. Agenda for future meetings: None.

2. Minutes.

3. Ratification List.

4. Inv. No. 731-TA-1056 (Final) (Certain Aluminum Plate from South Africa)—briefing and vote. (The Commission is currently scheduled to transmit its determination and Commissioners' opinions to the Secretary of Commerce on or before November 18, 2004.)

5. Outstanding action jackets: None.

In accordance with Commission policy, subject matter listed above, not disposed of at the scheduled meeting, may be carried over to the agenda of the following meeting.

By order of the Commission.
Issued: October 29, 2004.
Marilyn R. Abbott,
Secretary to the Commission.

[FR Doc. 04-24585 Filed 10-29-04; 3:31 pm]

BILLING CODE 7020-02-M